DEPARTMENT OF HEALTH AND HUMAN SERVICES

Centers for Disease Control and Prevention

Disease, Disability, and Injury Prevention and Control; Special Emphasis Panel: Musculoskeletal Research on Occupational Safety, Program Announcement (PA) 04-038

In accordance with section 10(a)(2) of the Federal Advisory Committee Act (Pub. L. 92-463), the Centers for Disease Control and Prevention (CDC) announces a meeting of the aforementioned Special Emphasis Panel.

Time and Date: 1 p.m.-2 p.m., January 29, 2007 (Closed).

Place: National Institute for Occupational Safety and Health (NIOSH), CDC, 626 Cochrans Mill Road, Pittsburgh, PA 15236.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of a research grant application in response to “Musculoskeletal Research on Occupational Safety,” PA 04-038.

For Further Information Contact: George Bokosh, Scientific Review Administrator, NIOSH, 626 Cochrans Mill Road, Pittsburgh, PA 15236, telephone (412) 386-6465.

The Director, Management Analysis and Services Office, has been delegated the authority to sign Federal Register notices pertaining to announcements of meetings and other committee management activities, for both CDC and the Agency for Toxic Substances and Disease Registry.

Dated: January 4, 2007.
Elaine Baker,
Acting Director, Management Analysis and Services Office, Centers for Disease Control and Prevention.

[FR Doc. E7-215 Filed 1-10-07; 8:45 am]

BILLING CODE 4163-18-P